DEPARTMENT OF TRANSPORTATION

[Docket DOT-OST-2015-0064; Order 2015-9-15]

Application of Altius Aviation, LLC, for Commuter Authority

AGENCY: Department of Transportation.

ACTION: Notice of Order to Show Cause.

SUMMARY: The Department of Transportation is directing all interested persons to show cause why it should not issue an order finding Altius Aviation, LLC fit, willing, and able, and awarding it a Commuter Air Carrier Authorization.

DATES: Persons wishing to file objections should do so no later than October 5, 2015.

ADDRESSES: Objections and answers to objections should be filed in Docket DOT-OST-2015-0064 and addressed to U.S. Department of Transportation, Docket Operations, (M-30, Room W12-140), 1200 New Jersey Avenue SE., West Building Ground Floor, Washington, DC 20590, and should be served upon the parties listed in Attachment A to the order.

FOR FURTHER INFORMATION CONTACT: Lauralyn Remo, Air Carrier Fitness Division (X-56), U.S. Department of Transportation, 1200 New Jersey Avenue SE., Washington, DC 20590, (202) 366-9721.

Dated: September 21, 2015.
Susan L. Kurland,
Assistant Secretary for Aviation and International Affairs.

[FR Doc. 2015-25308 Filed 10-5-15; 8:45 am]

BILLING CODE 4910-9X-P